DEPARTMENT OF TRANSPORTATION

National Highway Traffic Safety Administration

[Docket No. NHTSA-2020-0072; Notice 1]

PT. Multistrada Arah Sarana Tbk, Receipt of Petition for Decision of Inconsequential Noncompliance

AGENCY: National Highway Traffic Safety Administration (NHTSA), Department of Transportation (DOT).

ACTION: Receipt of petition.

SUMMARY: PT. Multistrada Arah Sarana, Tbk (MASA) has determined that certain Achilles, Corsa, Radar, and Milestar brand tires in various sizes do not fully comply with Federal Motor Vehicle Safety Standard (FMVSS) No. 139, New Pneumatic Radial Tires for Light Vehicles, and Part 574, Tire Identification and Recordkeeping. MASA filed a noncompliance report dated June 1, 2020, and subsequently petitioned NHTSA on June 25, 2020, for a decision that the subject noncompliance is inconsequential as it relates to motor vehicle safety. This notice announces receipt of MASA's petition.

DATES: Send comments on or before March 29, 2021.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

SUPPLEMENTARY INFORMATION:

I. Overview: MASA has determined that certain Achilles, Corsa, Radar, and Milestar brand tires in various sizes do not fully comply with the requirements of paragraph S5.5.1 of FMVSS No. 139, New Pneumatic Radial Tires for Light Vehicles (49 CFR 571.139) and S574.5 of Part 574, Tire Identification and Recordkeeping (49 CFR 574). MASA filed a noncompliance report dated June 1, 2020, pursuant to 49 CFR part 573, Defect and Noncompliance Responsibility and Reports, and subsequently petitioned NHTSA on June 25, 2020, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of MASA's petition is published under 49 U.S.C. 30118 and 30120 and does not represent any Agency decision or other exercise of judgment concerning the merits of the petition.

II. Tires Involved: Approximately 1,673,307 of the following Achilles, Corsa, Radar, and Milestar brand tires in various sizes, manufactured between January 3, 2016, and March 14, 2020, are potentially involved:

• Achilles 868 All Seasons, ATR Sport 2, Desert Hawk H/T2, 122, ATR-K Sport, and Desert Hawk UHP.

• Radar Renegade H/T and Renegade A/T.

• Corsa All Terrain XL and Highway Terrain.

• Milestar MS932XP, Patagonia M/T, and Grantland.

III. Noncompliance: MASA explains that the noncompliance is that the optional code in tire identification numbers (TIN), on the subject tires, exceeds the number of characters allowed and therefore does not fully comply with Part 574.5(g)(3), as required by S5.5.1 of FMVSS No. 139. Specifically, MASA introduced a modified optional code sequence, which utilized up to 6 characters in the tire identification number third grouping, when the optional code should be no more than 4 characters.

IV. Rule Requirements: Paragraph S5.5.1 of FMVSS No. 139 and part 574.5(g)(3) includes the requirements relevant to this petition. Each tire must be labeled with the tire identification number required by 49 CFR part 574 on the intended outboard sidewall of the tire. For new tires, the third group, consisting of no more than four symbols, may be used at the option of the manufacturer or retreader as a descriptive code for the purpose of identifying significant characteristics of the tire.

V. Summary of MASA's Petition: The following views and arguments presented in this section, V. Summary of MASA's Petition, are the views and arguments provided by MASA. They have not been evaluated by the Agency and do not reflect the views of the Agency. MASA described the subject noncompliance and stated their belief that the noncompliance is inconsequential as it relates to motor vehicle safety.

In support of its petition, MASA submitted the following reasoning:

1. Operational Safety:

a. MASA stated their belief that a TIN marking noncompliance does not create any operational safety risk for the vehicle. The tires comply with applicable FMVSS performance requirements and all other applicable regulations. A summary of production tire compliance audit testing will be provided to NHTSA separately from this filing.

b. The incorrect TIN marking with additional characters in the optional code has no bearing on tire performance.

c. The subject tires are properly marked with all other markings required under FVMSS No. 139, such as paragraph S5.5(c), maximum permissible inflation pressure, and paragraph S5.5(d), maximum load rating. The necessary information is available on the sidewall of the tire to ensure proper application and usage.

d. The subject tires contain the DOT symbol on both sidewalls, thus, indicating conformance to applicable FMVSS.

2. Identification and Traceability:

a. All information required by 49 CFR 574.5 for the TIN (plant code +size code+ option code+ date code) is present on the sidewall of the tire.

b. For identification and traceability purposes, the key information of the plant code and manufacturing date is present on the tire.

c. The existence of extra characters in the optional code does not inhibit the ability of a tire distributor, the tire dealer, or the consumer to register the tires.

d. ln the event that dealer/owner notifications are required, the TIN, as molded on the subject tires, is sufficient to ensure proper communication and identification of the tires.

e. To date, there is no record of a distributor, dealer, consumer, or other concerned party raising a question about tires with the extraneous characters

7. Summary: Based on the information presented, the tires molded with extraneous TIN optional code characters do not present a risk for motor vehicle safety. Additionally, identification and traceability of the subject tires could be accomplished in the event of a need to conduct a dealer/owner notification. Production records link plant code, size code, and optional code with the manufacturing dates for all concerned brands and tire sizes.

MASA concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that MASA no longer controlled at the time it determined that the noncompliance existed. However, any decision on this petition does not relieve equipment distributors and dealers of the prohibitions on the sale, offer for sale, or introduction or delivery for introduction into interstate commerce of the noncompliant tires under their control after MASA notified them that the subject noncompliance existed.

(Authority: 49 U.S.C. 30118, 30120: delegations of authority at 49 CFR 1.95 and 501.8)

Otto G. Matheke III,
Director, Office of Vehicle Safety Compliance.

[FR Doc. 2021-04000 Filed 2-25-21; 8:45 am]

BILLING CODE 4910-59-P